SMALL BUSINESS ADMINISTRATION

[Disaster Declaration # 13805 and # 13806]

Santa Clara Pueblo Disaster #NM-00038

AGENCY: U.S. Small Business Administration.

ACTION: Notice.

SUMMARY: This is a Notice of the Presidential declaration of a major disaster for Public Assistance Only for the Santa Clara Pueblo (FEMA-4147-DR), dated 10/29/2013.

Incident: Severe Storms and Flooding

Incident Period: 07/19/2013 through 07/21/2013

Effective Date: 10/29/2013

Physical Loan Application Deadline Date: 12/30/2013

Economic Injury (EIDL) Loan Application Deadline Date: 07/29/2014

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 10/29/2013, Private Non-Profit organizations that provide essential services of governmental nature may file disaster loan applications at the address listed above or other locally announced locations.

The following areas have been determined to be adversely affected by the disaster:

Primary Areas: Santa Clara Pueblo.

The Interest Rates are:

| Percent
For Physical Damage:
Non-Profit Organizations With Credit Available Elsewhere | 2.875
Non-Profit Organizations Without Credit Available Elsewhere | 2.875
For Economic Injury:
Non-Profit Organizations Without Credit Available Elsewhere | 2.875

The number assigned to this disaster for physical damage is 13805B and for economic injury is 13806B.

(Catalog of Federal Domestic Assistance Numbers 59002 and 59008)

James E. Rivera,
Associate Administrator for Disaster Assistance.

[FR Doc. 2013-26733 Filed 11-7-13; 8:45 am]

BILLING CODE 8025-01-P